FEDERAL COMMUNICATIONS COMMISSION

47 CFR Part 73

[DA 05-1301; MB Docket No. 04-436; RM-11112]

Radio Broadcasting Services; Cannelton and Tell City, IN

AGENCY: Federal Communications Commission.

ACTION: Final rule.

SUMMARY: In response to a Notice of Proposed Rule Making, 70 FR 775 (January 5, 2005) this Report and Order reallots Channel 275C3, Station WLME(FM) (“WLME”), Cannelton, Indiana, to Tell City, Indiana, and modifies Station WLME's license accordingly. In addition, this Report and Order reallots Channel 289A from Tell City to Cannelton, Indiana, and modifies Station WTCJ-FM's license accordingly. The coordinates for Channel 275C3 at Tell City, Indiana, are 37-50-52 NL and 86-36-18 WL, with a site restriction of 18.4 kilometers (11.4 miles) southeast of Tell City. The coordinates for Channel 289A at Cannelton are 37-48-13 NL and 86-48-57 WL, with a site restriction of 13.5 kilometers (8.4 miles) southwest of Cannelton.

DATES: Effective June 20, 2005.

FOR FURTHER INFORMATION CONTACT: R. Barthen Gorman, Media Bureau, (202) 418-2180.

SUPPLEMENTARY INFORMATION: This is a synopsis of the Commission's Report and Order, MB Docket No. 04-436, adopted May 4, 2005, and released May 6, 2005. The full text of this Commission decision is available for inspection and copying during normal business hours in the FCC's Reference Information Center at Portals II, 445 12th Street, SW., Room CY-A257, Washington, DC, 20554. The document may also be purchased from the Commission's duplicating contractor, Best Copy and Printing, Inc., Portals II, 445 12th Street, SW., Room CY-B402, Washington, DC, 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, broadcasting.

Part 73 of Title 47 of the Code of Federal Regulations is amended as follows:

PART 73—RADIO BROADCAST SERIES

1. The authority citation for Part 73 reads as follows:

Authority: 47 U.S.C. 154, 303, 334, and 336.

§ 73.202 [Amended]

2. Section 73.202(b), the Table of FM Allotments under Indiana, is amended by removing Channel 275C3 and by adding Channel 289A at Cannelton, and by removing Channel 289A and by adding Channel 275C3 at Tell City.

Federal Communications Commission.
John A. Karousos,
Assistant Chief, Audio Division, Media Bureau.

[FR Doc. 05-10239 Filed 5-24-05; 8:45 am]

BILLING CODE 6712-01-P